DEPARTMENT OF TRANSPORTATION

Surface Transportation Board

[STB Finance Docket No. 34053 (Sub-No. 1)]

Union Pacific Railroad Company—Trackage Rights Exemption—The Burlington Northern and Santa Fe Railway Company

AGENCY: Surface Transportation Board.

ACTION: Notice of Exemption.

SUMMARY: The Board, under 49 U.S.C. 10502, exempts the trackage rights described in STB Finance Docket No. 34053¹ to permit the trackage rights to expire on November 30, 2001, in accordance with the agreement of the parties.

¹ On June 8, 2001, the Union Pacific Railroad Company (UP) filed a notice of exemption under the Board's class exemption procedures at 49 CFR 1180.2(d)(7). The notice covered the agreement by BNSF to grant temporary overhead trackage rights to UP over 235 miles of BNSF's rail line between BNSF milepost 885.2 near Bakersfield, CA, and BNSF milepost 1120.54 near Stockton, CA. See Union Pacific Railroad Company—Trackage Rights Exemption—The Burlington Northern and Santa Fe Railway Company, STB Finance Docket No. 34053 (STB served June 22, 2001). The trackage rights agreement is scheduled to expire November 30, 2001. The trackage rights operations under the exemption were scheduled to be consummated on June 17, 2001.

DATES: This exemption will be effective on August 16, 2001.

Petitions to reopen must be filed by August 6, 2001.

ADDRESSES: An original and 10 copies of all pleadings referring to STB Finance Docket No. 34053 (Sub-No. 1) must be filed with the Surface Transportation Board, Office of the Secretary, Case Control Unit, 1925 K Street, NW., Washington, DC 20423-0001. In addition, a copy of all pleadings must be served on petitioners' representatives (1) Robert T. Opal, 1416 Dodge Street, Room 830, Omaha, NE 68179, and (2) Yolanda Grimes Brown, 2500 Lou Menk Drive, P.O. Box 961039, Fort Worth, TX 76161-0039.

FOR FURTHER INFORMATION CONTACT: Joseph H. Dettmar (202) 565-1600. [TDD for the hearing impaired 1-800-877-8339.]

SUPPLEMENTARY INFORMATION: Additional information is contained in the Board's decision. To purchase a copy of the full decision, write to, call, or pick up in person from: Da-To-Da Office Solutions, Room 405, 1925 K Street, NW., Washington, DC 20006. Telephone: (202) 293-7776. [Assistance for the hearing impaired is available through TDD services 1-800-877-8339.]

Board decisions and notices are available on our website at “WWW.STB.DOT.GOV.”

Decided: July 10, 2001.
By the Board, Chairman Morgan, Vice Chairman Clyburn, and Commissioner Burkes.
Vernon A. Williams,
Secretary.

[FR Doc. 01-17847 Filed 7-16-01; 8:45 am]

BILLING CODE 4915-00-P